SOCIAL SECURITY ADMINISTRATION

Program: Cooperative Agreements for Work Incentives Planning and Assistance Projects; Program Announcement No. SSA-OESP-06-1

AGENCY: Social Security Administration.

ACTION: Announcement of the availability of fiscal year 2006 cooperative agreement funds and request for applications.

SUMMARY: The Social Security Administration (SSA) announces its intention to competitively award cooperative agreements to establish community-based work incentives planning and assistance projects in every State, the District of Columbia, Puerto Rico, Guam, the Northern Mariana Islands, American Samoa, and the U.S. Virgin Islands. (Throughout this announcement, the term “'State”' will be used to refer to all U.S. States, the District of Columbia, Puerto Rico, Guam, the Northern Mariana Islands, American Samoa, and the U.S. Virgin Islands.)

The purpose of these projects is to disseminate accurate information to beneficiaries with disabilities (including transition-to-work aged youth) about work incentives programs and issues related to such programs, to enable them to make informed choices about working and whether or when to assign their Ticket to Work, as well as how available work incentives can facilitate their transition into the workforce. The ultimate goal of the work incentives planning and assistance projects is to assist SSA beneficiaries with disabilities succeed in their return to work efforts.

DATES: The closing date for receipt of cooperative agreement applications under this announcement is July 1, 2006. Prospective applicants are also asked to submit, preferably by May 30, 2006, an e-mail, a fax, post card, or letter of intent that includes (1) the program announcement number (SSA-OESP-06-1) and title (Work Incentives Planning and Assistance Program); (2) the name of the agency or organization that is applying; and (3) the name, mailing address, e-mail address, telephone number, and fax number for the organization's contact person. This notice of intent is not binding, and does not enter into the review process of a subsequent application. The purpose of the notice of intent is to allow SSA staff to estimate the number of independent reviewers needed and to avoid potential conflicts of interest in the review. The notice of intent should be faxed to (410) 966-1278; mailed to Social Security Administration, Office of Employment Support Programs, Office of Employment Policy, 107 Altmeyer Building, 6401 Security Boulevard, Baltimore, Maryland 21235 or e-mailed to Jenny.Deboy@ssa.gov.

FURTHER INFORMATION CONTACT: The Internet is the primary means recommended for obtaining information on the program content of this announcement. If an applicant has a question about this announcement, that question should be referred to the following Internet e-mail address: Jenny.Deboy@ssa.gov. When sending in a question, applicants should include the program announcement number SSA-OESP-06-1 and the date of this announcement. In the rare instances when an organization may not have access to the Internet, an applicant with a question about the program content may contact: Jenny Deboy, Project Officer, or Regina Bowden, Team Leader, Social Security Administration, Office of Employment Support Programs, Office of Employment Policy, 107 Altmeyer Building, 6401 Security Boulevard, Baltimore, Maryland 21235. The telephone numbers are: Jenny Deboy, (410) 965-8658, or Regina Bowden, (410) 965-7145. The fax number is (410) 966-1278.

To obtain an application kit, see the instructions under Part IV, Section A. For information regarding the application package where Internet access is not available, contact: Phyllis Y. Smith, Team Leader, or Gary Stammer, Grants Management Officer, Social Security Administration, Office of Acquisition and Grants, Grants Management Team, 7111 Security Boulevard, 1st Floor—Rear Entrance, Baltimore, Maryland 21244. The telephone numbers are Phyllis Y. Smith, (410) 965-9518, or Gary Stammer, (410) 965-9501. The fax number is (410) 966-9310.

SUPPLEMENTARY INFORMATION: The Social Security Protection Act of 2004 (Pub. L. 108-203) reauthorized funding through FY 2009 for the WIPA program, which was initially authorized by the Ticket to Work and Work Incentives Improvement Act of 1999 (Pub. L. 106-170), enacted on December 17, 1999. The WIPA Program is designed to provide work incentives planning, assistance, and outreach services to SSA's beneficiaries with disabilities nationwide, in all geographic areas and U.S. territories.

SSA initially made announcements of cooperative agreement funds and requested applications for a 5-year period in FY 2000 and FY 2001. All currently funded Benefits Planning, Assistance and Outreach (BPAO) cooperative agreement awards will expire on September 29, 2006.

This announcement is to request applications for awards, which will begin on September 30, 2006, to provide work incentives planning, assistance and outreach services to all SSA beneficiaries with disabilities seeking employment nationwide. All currently funded BPAO cooperative agreements will expire on September 29, 2006. Subject to the availability of funds, SSA anticipates minimum awards of $100,000 for individual state WIPA projects (Minimum awards for territories remain at $50,000) and a maximum of $300,000 will be available to fund specific WIPA projects annually. Awardees are required to contribute a non-Federal match of project costs of at least 5% of the total project cost. The non-Federal share may be cash or in-kind (property or services). Awards made under this announcement may be renewed annually through FY 2009. Future funding will be contingent upon satisfactory progress in achieving the objectives of the project, the availability of fiscal year funds and the continued relevance of the project activity to the Social Security Administration. The total period of performance, if renewed annually, will be 3 years, September 30, 2006-September 29, 2009.

SSA will conduct pre-application seminars to provide interested WIPA applicants with guidance and technical assistance in preparing their applications. Information about where and when the seminars will be held will be on SSA's Web site at: http://www.socialsecurity.gov/work/WIPARFA.html.

Table of Contents

I. Funding Opportunity Description

A. Background

B. Work Incentives Planning and Assistance (WIPA) Service Plan

C. Community Work Incentives Coordinator Responsibilities and Competencies

D. Work Incentives Planning and Assistance Services Defined

E. Additional Conditions for Award of a Cooperative Agreement

II. Award Information

III. Eligibility Information

A. Eligible Applicants

B. Policies Regarding Potential Conflict of Interest in WIPA Service Delivery

C. Cost Sharing or Matching

IV. Application and Submission Information

A. Address To Request Application

B. Content and Form of Application Submission

C. Electronic Applications

D. Mailed Applications

E. Checklist for a Complete Application

F. Guidelines for Application Submission

G. Submission Dates and Times

H. Intergovernmental Review

I. Funding Restrictions

J. Other Submission Requirements

V. Application Review Information

A. Criteria

B. Review and Selection Process

VI. Award Administration Information

A. Award Notices

B. Administrative and National Policy Requirements

C. Reporting

D. MI Program Data To Be Collected and Reported

VII. Agency Contacts

VIII. Other Information

I. Funding Opportunity Description

A. Background

Section 1149 of the Social Security Act, as added by section 121 of the Ticket to Work and Work Incentives Improvement Act of 1999 (TWWIIA), requires the Commissioner of Social Security (the Commissioner) to establish a community-based work incentives planning and assistance program for the purpose of disseminating accurate information to beneficiaries with disabilities on work incentives programs and issues related to such programs to assist them in their employment efforts. The Commissioner has established a competitive program of cooperative agreements to provide work incentives planning, assistance and outreach. This SSA program is called the Work Incentives Planning and Assistance (WIPA) Program, formerly referred to as the Benefits Planning, Assistance and Outreach (BPAO) Program. The WIPA program also provides information on the availability of protection and advocacy services to beneficiaries with disabilities, including beneficiaries participating in the Ticket to Work and Self-Sufficiency Program established under section 1148, the Supplemental Security Income (SSI) program established under section 1619, and other programs that are designed to encourage beneficiaries with disabilities to seek, maintain and regain employment.

The WIPA Program is an important part of SSA's employment strategy for beneficiaries with disabilities. One of SSA's goals in implementing TWWIIA is to help achieve a substantial increase in the number of beneficiaries with disabilities who return to work and achieve greater self-sufficiency.

In support of this goal, SSA is seeking applications from any State or local government (excluding any State agency administering the State Medicaid program), public or private organization, or nonprofit or for-profit organization (for-profit organizations may apply with the understanding that no cooperative agreement funds may be paid as profit to any cooperative agreement awardee), as well as Native American tribal organizations that the Commissioner determines is qualified to provide work incentives planning services. Applicants will emphasize the WIPA Program's efforts to provide Social Security beneficiaries receiving Social Security Disability Insurance (SSDI) and/or Supplemental Security Income (SSI) based on disability and/or blindness with work incentives planning, assistance and outreach services to assist them in their return to work efforts. Applicants are also strongly encouraged to partner with their local Department of Labor (DOL) One-Stop Career Center which serves as a “port of entry” for jobs for beneficiaries, as well as with other local partners that provide employment-related services to SSA beneficiaries with disabilities. Currently, DOL One-Stop Career Centers have many invaluable employment-related resources and supports that can help ensure a disabled beneficiary's success in seeking and maintaining employment.

While SSA recognizes not every SSDI or SSI beneficiary with a disability will use work incentives planning and assistance services, awardees must make these services available to all eligible beneficiaries within a WIPA awardee's assigned geographic area.

Note: All applications will be reviewed to determine completeness and conformity to the requirements of this announcement. Complete and conforming applications will then be forwarded to an independent panel of reviewers for evaluation. The results of this review and evaluation will assist the Commissioner in making award decisions. Although the results of this review and evaluation are a primary factor considered in making award decisions, the evaluated score is not the only factor used. In selecting eligible applicants to be funded, consideration may be given to issues such as experience, past performance, proposed costs, the need to achieve an equitable distribution of WIPA projects among geographic regions of the country, as well as, the need to achieve an equitable distribution of WIPA projects among disability and minority populations.

B. Work Incentives Planning and Assistance (WIPA) Service Plan

In order to be considered for an award, WIPA applicants must provide a detailed written plan for how they will deliver the full range of work incentives planning and assistance services; have the resources, management, qualifications and experience necessary to successfully administer the project, as well as provide a written Quality Assurance (QA) plan that demonstrates the efficacy of the service delivery plan. Applicants should also provide supporting documentation regarding how they will work with the Department of Labor (DOL) One-Stop Career Centers; and a written assurance that they will work in collaboration with the Program Manager for Recruitment and Outreach (PMRO).

Note: Additional information regarding how WIPA projects will work with the PMRO may be found at http://www.socialsecurity.gov/work/WIPARFA.html.

Applicants should address in their written plan:

• Their understanding of work incentives planning and assistance services as they relate to a beneficiary's return to work efforts, including other Federal, State, and local benefits programs (designed to assist beneficiaries with disabilities with employment) with which they have worked in the past;

• How they will develop and maintain their partnering efforts and relationship with other employment-related local organizations, including DOL One-Stops, to maximize a beneficiary's return to work efforts;

• Their ability to participate with the PMRO in conducting and coordinating outreach activities. [Note: Additional information regarding how WIPA projects will work with the PMRO may be found at http://www.socialsecurity.gov/work/WIPARFA.html.] In view of the fact that the PMRO has primary responsibility for outreach, WIPA projects should designate no more than 10% of their project resources to other outreach efforts;

• Provide a list of specific resources, services and supports that will be involved in the project and their roles as they relate to work incentives and a beneficiary's return to work efforts;

• A detailed plan for monitoring beneficiary progress, case management and follow-up;

• A documented process for collecting beneficiary-related Management Information (MI) and assuring that a Quality Assurance (QA) plan is in place that evaluates the work incentives planning and assistance services provided; [Note: Applicants should document that they agree to collect Social Security Numbers (SSNs) of beneficiaries and include them in the SSA approved data collection system so that SSA may further evaluate the work incentives services provided.]

• Written procedures for addressing potential organizational conflict of interest in regards to the delivery of WIPA services and other programs or services offered by the organization; and,

• Written grievance procedures for beneficiaries and evidence of its compliance which will be submitted to SSA quarterly.

Each applicant should address the proposed number of beneficiaries with disabilities it expects to serve.

Awardees are encouraged to hire and staff their offices with individuals with disabilities who have used work incentives to successfully go to work. These individuals should conduct as many of the day-to-day operational functions as possible.

Awardees must state how they will ensure equitable access and services for all beneficiary disability groups. This requirement may be met by partnering with other community-based organizations.

In providing work incentives-related education and planning, WIPA projects must make concerted and aggressive efforts to address the needs of underserved individuals with disabilities from diverse ethnic and racial backgrounds (e.g., African Americans, Native Americans, Native Hawaiians or Other Pacific Islanders, Alaskan Natives, Asian-Americans, and Hispanics). In particular, applicants should show how they will collaborate with PMRO to conduct outreach in ways that ensure interaction with diverse communities specific to their requested geographic area. Applicants who serve tribal lands and sovereign nations must also provide documentation of how they will ensure equitable access and services for Native-American and Alaskan-Native populations. Applicants must indicate if formal agreements with tribal governments or Section 121 VR Programs, etc. are in place.

The applicants must also describe how they will address any special cultural requirements of populations (e.g., Native Americans) within the targeted geographic area, as well as non-English speaking populations and SSI beneficiaries as young as age 14.

Applicants must have established strong working relationships with other agencies that are already providing services designed to enhance the employability, employment and career advancement of beneficiaries with disabilities, particularly, DOL One-Stop Career Centers which provide employment support by assisting a beneficiary with interview techniques, resume writing, job coaching, and a variety of other support services that lead to employment. A full explanation of these collaborative efforts should be provided.

In addition to DOL One-Stop Career Centers, awardees are encouraged to collaborate with other public and/or private organizations (e.g., SSA Field Offices, Centers for Medicare and Medicaid Services (CMS), Vocational Rehabilitation (VR) Agencies, Employment Networks (ENs), Minority Commission, Public Schools, Department of Education, and Mental Health organizations), through interagency agreements or other mechanisms, to integrate and strengthen work incentives planning and assistance services with employment services available to beneficiaries with disabilities.

Because of the life transitions that youth with disabilities experience, it is important to target specific services to this population. Each project must make WIPA services available to SSI beneficiaries as young as age 14 and state how they will target and serve transition-aged youth.

Where applicable, applicants must indicate the ability to work closely with the SSA Youth Transition Process Demonstration (YTD) projects that are currently located in California, Colorado, Iowa, New York, Maryland and Mississippi. These six states were awarded grants in October 2003 to develop service delivery systems that demonstrate how communities can integrate services and resources to achieve positive transition results for youth from secondary education to either post-secondary education and/or employment. The YTD projects work with youth ages 14-25 who receive SSI or SSDI benefit payments based on their own disability and/or blindness, or youth at risk of receiving such benefits. Additional information regarding the YTD projects may be found at http://www.socialsecurity.gov/disabilityresearch.

Applicants must provide evidence of collaborative relationships with relevant agencies through references in regards to work incentives experience, letters of intent, memoranda of understanding, etc. Applicants should not request references, letters of intent or commitment from SSA field offices as SSA will assure field office cooperation.

The WIPA awardees will collect data pertaining to work incentives planning, assistance, and outreach activities as described in Part IV, Section C, Reporting; and cooperate with SSA in providing the information needed to evaluate the quality of the services being provided and for an assessment of the success of the WIPA Program.

Where applicable, applicants should indicate if they are participants of the Disability Program Navigator (DPN) initiative, a program established by the Social Security Administration (SSA) and the Employment and Training Administration (ETA) of the Department of Labor (DOL). Participants in the DPN initiative must fully explain how, with WIPA personnel and DPN personnel working collaboratively, they will provide seamless services to beneficiaries seeking employment.

C. Community Work Incentives Coordinator Responsibilities and Competencies

1. Responsibilities

The WIPA cooperative agreement awardees shall select individuals who will act as Community Work Incentives Coordinators (CWICs). The CWICs will provide work incentives planning and assistance directly to beneficiaries with disabilities to assist them in their employment efforts; and conduct outreach efforts in collaboration with SSA's Program Manager for Recruitment and Outreach (PMRO) contractor to beneficiaries with disabilities (and their families) who are potentially eligible to participate in Federal or State work incentives programs. As part of work incentives planning and assistance, CWICs will also screen and refer beneficiaries with disabilities to the appropriate Employment Networks (ENs) based on the beneficiary's expressed needs and types of impairments. CWICs are also required to work in cooperation with SSA's Area Work Incentives Coordinators (AWICs), Federal, State, local and private agencies and other nonprofit organizations that serve beneficiaries with disabilities seeking employment. CWICs will also provide general information on the adequacy of health benefits coverage that may be offered by an employer of a beneficiary with a disability; the extent to which other health benefits coverage may be available to that beneficiary in coordination with Medicare and/or Medicaid; and the availability of protection and advocacy services for beneficiaries with disabilities and how to access such services.

2. Competencies and Credentialing

Applicants must ensure that CWICs have the skills required to competently provide work incentives planning and assistance services that assist beneficiaries in their employment efforts. WIPA awardees will be required to provide documentation to SSA that CWIC personnel meet the requirements below. SSA will use this documentation to credential CWIC personnel before they may begin providing beneficiary services.

SSA prefers that CWICs have attained a bachelor's degree in a relevant field, or possess relevant experience. CWICs may possess a combination of education and experience if the experience provides the knowledge, skills and abilities required to successfully perform the duties of the position as shown below. Former beneficiaries may substitute up to two years of full-time work for the education requirement if they can demonstrate that they used SSA work incentives to successfully gain employment. All CWICs must demonstrate successful completion of required SSA sponsored work incentives training or shall complete said training within 3 months of hire.

CWICs should bring the following knowledge, skills, and abilities to the position:

• Basic math skills, with an emphasis on problem solving;

• Deductive ability with analytical thinking and creative problem solving skills;

• Demonstrate competent interviewing and partnering skills;

• Demonstrated computer proficiency;

• Demonstrated ability at linking individual's with disabilities with employment opportunities;

• Ability to interpret Federal, State, and local laws, regulations, and administrative code about public benefits;

• Communication skills (written and verbal);

• Knowledge of terminology used to describe certain disabilities and awareness of cultural and political issues pertaining to various populations and to various disabilities; and

• Basic computer skills.

CWICs are required to be proficient in the following knowledge, skills, and abilities:

• Social Security Disability Insurance (SSDI) and Supplemental Security Income (SSI) disability programs;

• Knowledge of SSA and other Federal, State and local work incentives programs;

• Knowledge of all public benefits programs, basic operations and inter-relationships among the programs, specifically in terms of their impact upon employment;

• Translating technical information for lay individuals;

• Accessing information in a variety of ways (including the ability to be able to recognize when additional information is needed);

• How to access specific Employment Network (EN) information;

• Interpersonal skills (e.g., recognize and help people manage anger and conflict, enjoy working with individuals); Counseling and evaluation-related skills (ability to listen, evaluate alternatives, advise on potential course of action);

• Knowledge of SSA field office structure and how to work with various SSA work incentives specialists e.g., Area Work Incentives Coordinators (AWICs), Plan to Achieve Self Support (PASS) Specialists, Work Incentives Liaisons (WILs); and

• Knowledge of ethics (e.g., confidentiality, conflict of interest).

• Ability to manage beneficiary case files and information electronically.

The applicant must clearly explain how it will ensure all individuals hired as CWICs will possess or acquire the relevant knowledge, skills and abilities. SSA may contract with separate entities to provide technical assistance and training to awardees on an ongoing basis about SSA's programs and work incentives, Medicare and Medicaid, and other Federal work incentives programs.

Note: Due to the fact that Community Work Incentives Coordinators (CWICs) will have access to confidential beneficiary information they may be subject to SSA conducted background checks and fingerprinting in accordance with SSA personnel suitability requirements. SSA will distribute the necessary forms and consents for completion upon award.

D. Work Incentives Planning and Assistance Services Defined

1. Work Incentives Planning Services

Work incentives planning services requires an in-depth understanding of the beneficiary's current situation and how available work incentives can impact on a beneficiary's employment efforts. CWICs will establish written benefits analysis plans for beneficiaries with disabilities outlining their employment options and develop long-term supports that may be needed to ensure a beneficiary's success in regards to employment. CWICs will also, based upon a beneficiary's needs, make referrals to Employment Networks (ENs) or Vocational Rehabilitation (VR) when appropriate. CWICs will also provide periodic, follow-up planning services to ensure that the information, analysis, and guidance is updated as new conditions (with regard to the applicable programs or to the beneficiary's situation) arise.

To provide work incentives planning services, CWICs will:

• Obtain and evaluate comprehensive information about a beneficiary with a disability on the following:

—Beneficiary's background information,

—Disabling Impairments/Conditions,

—Educational and vocational background,

—Employment and earnings,

—Resources,

—Federal, State and local benefits,

—Health insurance,

—Work expenses,

—Work Incentives, and

—Service(s) and supports;

• Assess the potential impacts of employment and other changes on a beneficiary's Federal, State and local benefits eligibility and overall financial well-being;

• Provide detailed information and assist the beneficiary in understanding and assessing the potential impacts of employment and/or other actions or changes on his/her life situation, and provide specific guidance regarding the effects of various work incentives;

• Develop a comprehensive framework of possible options available to a beneficiary and projected results for each as part of the career development and employment process; and

• Ensure confidentiality of all information provided.

2. Work Incentives Assistance Services

Work incentives assistance involves the delivery of accurate information and direct supports for the purpose of assisting a beneficiary in determining the most advantageous work incentives to use in going or returning to work. Work incentives assistance also involves providing information and referral (specifically in terms of Ticket assignment to Employment Networks (ENs) and Vocational Rehabilitation (VR), as well as problem-solving services as needed. Work incentives assistance will generally build on previous planning services and include periodic updates of a beneficiary's specific information, reassessment of benefit(s) and overall impact, education and advisement, and additional services for monitoring and managing work incentives to ensure a beneficiary's success in their employment efforts.

To provide work incentives assistance services, CWICs will:

• Emphasize employment through the use of work incentives planning, leading to greater self-sufficiency and employment for beneficiaries with disabilities;

• Refer beneficiaries to Vocational Rehabilitation (VR), Employment Networks (ENs), DOL One-Stop Career Centers, as well as other organizations that emphasize/provide seamless employment-related supports and ticket assignments.

• Assist beneficiaries with disabilities to resolve problems related to work efforts, higher education and work attainment or continuation of work;

• Provide ongoing, comprehensive work incentives monitoring and management assistance to beneficiaries who are employed or seeking employment; and

• Provide long-term work incentives management on a scheduled, continuous basis, allowing for the planning and provision of supports at regular checkpoints, as well as critical transition points in a beneficiary's receipt of benefits, improvement of medical condition, work attempts, training and employment;

• Provide ongoing direct assistance to a beneficiary in the development of a comprehensive, long-term work plan to guide the effective use of Federal, State and local work incentives. Specific components of the plan must address:

—Desired return to work and self-sufficiency outcomes,

—Related steps or activities necessary to achieve outcomes,

—Associated dates or timeframes,

—Building on initial work incentives planning efforts including information gathering, analysis and advisement, and

—Benefits/financial analysis (pre and post-employment);

• Provide intensive assistance to beneficiaries, their key stakeholders, and their support teams in making informed choices and establishing employment-related goals. Needed assistance may include, but is not limited to, the following:

—Explanations, descriptions, and written plans on how SSDI and SSI work incentives programs may lead to self-supporting employment by developing a Plan for Achieving Self-Support (PASS); the use of Impairment Related Work Expenses (IRWEs); the use of a Subsidy; Ability to claim Unincurred Business Expenses; Continued Payments Under a Vocational Rehabilitation Program (also known as Section 301); as well as the possibility of reinstatement of benefits when necessary without filing a new application;

—Explanations, descriptions, and written plans on how the SSI 1619(a) and 1619(b) provisions and requirements may lead to self-supporting employment by allowing for continued medical assistance coverage; earned income exclusion; student earned income exclusion; property essential to self-support; as well as the possibility of reinstatement of benefits when necessary without filing a new application;

—Explanations, descriptions, and written plans on how the SSDI trial work period (TWP) and extended period of eligibility (EPE) provisions may lead to self-supporting employment by allowing payment of benefits for a specified period of time dependent upon the amount of earnings;

—Advocating for work supports on behalf of a beneficiary with other agencies and programs, which requires in-person, telephone and/or written communication with the beneficiaries, other individuals and other involved parties, generally, over a period of several weeks to several months.

• Provide ongoing follow-up assistance to beneficiaries who have previously received work incentives planning and/or other types of work incentives assistance services, and assist them and other involved parties to:

—Update information,

—Refer to Employment Networks (ENs) or Vocational Rehabilitation, when necessary,

—Reassess impact of employment and other changes on benefits and work incentives, and

—Provide additional guidance on work incentives options, issues and management strategies.

• Assist beneficiaries to update work incentives management plans throughout their employment efforts;

• Collaborate with SSA's Program Manager for Recruitment and Outreach (PMRO) to conduct outreach to beneficiaries with disabilities about the use of work incentives to work.

3. Support to PMRO Work Incentives Education/Ticket Marketing/Recruitment

The WIPA awardees will be required to provide local CWIC support to the PMRO in order to provide community-based Work Incentives Educational Seminars for beneficiaries with disabilities to learn about available work incentives. These local Work Incentives Education/Ticket Marketing/Recruitment meetings are intended to provide accessible, scenario based learning opportunities for beneficiaries with disabilities to understand the availability and use of work incentives to assist them in their return to work efforts. In addition, Vocational Rehabilitation (VR), Employment Networks (ENs) and other employers will also be invited to participate to introduce their services at the end of these meetings so that beneficiaries who want to work will be informed about available employment support services and opportunities in the community.

The PMRO has primary responsibility for outreach. In support of PMRO activities, WIPAs should designate a maximum of 10% of their staff time to ticket marketing/recruiting efforts under the direction of the PMRO.

Note: Additional information regarding how WIPA projects will work with the PMRO may be found at http://www.socialsecurity.gov/work/WIPARFA.html.

The WIPA should make staff resources available at least one day per week to assist the PMRO to:

• Identify accessible local venues for holding meetings, preference should be given to DOL One-Stop Career Centers;

• Conduct regular (at least weekly) work incentives education and Ticket to Work recruitment sessions in collaboration with the PMRO, SSA staff, the local Workforce Investment Board s Disability Program Navigators, local Employment Networks (ENs), Vocational Rehabilitation (VR), employers and other potential partners.

• At the weekly sessions present with the assistance of local SSA staff (if available) a 60-90 minute scenario-based work incentives overview to be provided (in accessible formats) by the PMRO.

4. Additional Work Incentives Outreach Services

Work incentives outreach activities are educational efforts to inform beneficiaries of available work incentives, as well as the services and supports available to enable them to access and benefit from those work incentives in terms of working. In view of the fact that the PMRO has primary responsibility for outreach, WIPA's should designate no more than 10% of their project resources for other local outreach efforts; excluding those resources allocated to the PMRO Work Incentives Educational Seminars. WIPA's will be provided such things as marketing materials, developed by the PMRO. Each project will support the PMRO in doing outreach, participate with them, and coordinate any outreach activities through them. Outreach activities should be targeted directly to SSDI and SSI beneficiaries with disabilities, their families, to advocacy groups, service provider agencies, and employers that have regular contact with them. Outreach activities should be directed toward and sensitive to the needs of individuals from diverse ethnic backgrounds, persons with English as their second language, as well as non-English speaking persons, individuals residing in highly urban or rural areas, and other traditionally underserved groups.

To conduct ongoing local outreach, CWICs will:

• Prepare and disseminate information explaining the Ticket to Work Program and other Federal, State or local work incentives programs and their interrelationships; and

• Work in cooperation with the Program Manager Recruiting and Outreach (PMRO) contractor to market the Ticket to Work Program, as well as other Federal, State, and private agencies and nonprofit organizations that serve beneficiaries with disabilities, such as DOL One-Stop Career Centers and with other agencies and organizations that focus on vocational rehabilitation and work-related training and counseling.

To assist SSA in assessing the scope and usefulness of outreach and information provided under this program, each project is required to demonstrate a collaborative effort among other community-based organizations experienced in providing services to people with disabilities, particularly DOL One-Stop Career Centers. Applicants should provide proof that the assigned Project Director possesses work incentives management experience and has knowledge on all of SSA's work incentives available to beneficiaries with disabilities.

In addition, projects will conduct regular work incentives education and Ticket to Work outreach sessions in collaboration with the PMRO, SSA staff, the local Workforce Investment Board's Disability Program Navigators, Vocational Rehabilitation (VR), local Employment Networks (ENs) and other potential partners. Projects will also need to coordinate joint outreach services with the SSA Area Work Incentives Coordinator (AWIC) to include attendance at quarterly Training and Technical Assistance meetings with the AWIC.

5. Costs

Federal cooperative agreement funds may be used for allowable costs incurred by WIPA awardees in conducting direct work incentives planning and assistance services to SSA's beneficiaries with disabilities. These costs could include administrative and overall project management costs, within the limitations discussed in Section II, Award Information. Federal cooperative agreement funds are not intended to cover costs that are reimbursable under an existing public or private program, such as social services, rehabilitation services, or education. No SSDI or SSI beneficiary can be charged for any service delivered under a WIPA project cooperative agreement, including the preparation of a PASS. Work incentives planning and assistance services are intended to be free and must be made accessible to all SSA beneficiaries with disabilities in the project's geographical area.

E. Additional Conditions for Award of a Cooperative Agreement

Upon award, the WIPA cooperative agreement awardees shall:

1. Employ CWICs and require them to complete an approved initial four day training session within 3 months of award. SSA, or its designated technical assistance and training contractor, will provide technical assistance and training to WIPA projects about SSA's programs and work incentives (e.g., TWP, EPE, IRWE, PASS, 1619(a) and (b), and Medicaid buy-in provisions/Balanced Budget Act; Medicare and Medicaid; and on other Federal work incentives programs.

CWICs will be trained on how to screen and refer beneficiaries with disabilities to the appropriate ENs based on the beneficiary's expressed needs and types of impairments.

WIPA awardees must provide training and technical assistance to their CWICs about applicable State and local programs and the effects that these programs have on other programs' eligibility and benefits.

2. Ensure that CWICs are provided periodic refresher, update and new hire training sessions, as needed, and take part in the evaluation of training activities and the evaluation of ongoing training needs evaluation by SSA or its designated contractor.

3. Ensure that CWICs have completed work incentives training within 3 months of award, develop a local outreach strategy and begin to implement outreach, in collaboration with PMRO, within 3 months of award.

4. Obtain approval from SSA of management information system data collection elements and procedures with SSA to assure compatibility with the national data base collection program (within 60 days after award); [Note: Applicants should document that they agree to collect Social Security Numbers (SSNs) of beneficiaries and include them in the SSA approved data collection system so that SSA may further evaluate the work incentives services provided.]

5. Develop and submit quarterly program progress reports that contain management information to SSA's Office of Acquisition and Grants (OAG) and SSA's Office of Employment Support Programs;

6. Develop and submit bi-annual financial reports to SSA, OAG;

7. Provide to SSA for approval and prior to implementation a detailed description of any and all planned changes to the project design;

8. Cooperate with SSA in scheduling and conducting site visits, and allow SSA immediate access to WIPA facilities, personnel, and SSA beneficiaries upon request;

9. Develop and maintain a collaborative working relationship with the local servicing SSA field offices;

10. Implement an ongoing management and quality assurance process set by SSA.

II. Award Information

Legislative authority for this cooperative agreement program is in section 1149 of the Social Security Act (the Act), as established by section 121 of Public Law 106-170 and subsequent reauthorization in section 407 of Public Law 108-203. The regulatory requirements that govern the administration of SSA awards are in the Code of Federal Regulations, Title 20, parts 435 and 437 (as published in the May 27, 2003 Federal Register at 68 FR 28710 and 28727). Applicants are urged to review the requirements in the applicable regulations.

All awards made under this program are in the form of cooperative agreements. A cooperative agreement anticipates substantial involvement between SSA and the awardee during the performance of the project. Involvement shall include SSA collaboration or participation in the management of the activity as determined at the time of the award. For example, SSA will be involved in decisions involving project design and scope, hiring of personnel, service delivery priorities, deployment of resources, release of public information materials, quality assurance, and coordination of activities with other offices.

Actual funding availability during this period is subject to annual appropriation by Congress. SSA anticipates that the award under this announcement will be made by September 30, 2006.

SSA will award cooperative agreements to qualified entities based on the number of beneficiaries with disabilities receiving SSDI and /or SSI benefits who reside in the geographic area to be served.

Subject to the availability of funds, SSA anticipates that a minimum of $100,000 for individual state WIPA projects (Minimum awards for territories remains at $50,000) and a maximum of $300,000 will be available to fund specific WIPA projects annually. Attached is a chart which depicts state-by-state beneficiary populations.

SSA may suspend or terminate any cooperative agreement in whole or in part at any time before the date of expiration, whenever it determines that the awardee has failed to comply with the terms and conditions of the cooperative agreement. SSA will promptly notify the awardee in writing of the determination and the reasons for suspension or termination, and the effective date of the suspension or termination.

III. Eligibility Information

A. Eligible Applicants

A cooperative agreement may be awarded to any State or local government (excluding any State administering the State Medicaid program), public or private organization, or nonprofit or for-profit organization (for profit organizations may apply with the understanding that no cooperative agreement funds may be paid as profit to any awardee), as well as Native American tribal organizations that the Commissioner determines is qualified to provide work incentives planning, assistance and outreach services to all SSDI and SSI beneficiaries with disabilities, within the targeted geographic area. Partners may include; but are not limited to, Centers for Independent Living established under title VII of the Rehabilitation Act of 1973, protection and advocacy organizations, Native American tribal entities, client assistance programs established in accordance with section 112 of the Rehabilitation Act of 1973, State Developmental Disabilities Councils established in accordance with section 124 of the Developmental Disabilities Assistance and Bill of Rights Act, and State agencies administering the State program funded under part A of title IV of the Act. The Commissioner may also award a cooperative agreement to a State or local Workforce Investment Board, a Department of Labor (DOL) One-Stop Career Center System established under the Workforce Improvement Act of 1998, or a State Vocational Rehabilitation (VR) agency.

Note: SSA will not further consider applications for independent panel review that do not meet the organizational eligibility criteria as noted above.

Note: For-profit organizations may apply with the understanding that no cooperative agreement funds may be profit to an awardee of a cooperative agreement. Profit is considered as any amount in excess of the allowable costs of the cooperative agreement awardee. A for-profit organization is a cooperation or other legal entity that is organized or operated for the profit or benefit of its shareholders or other owners and must be distinguishable or legally separable from that of an individual acting on his/her own behalf. Applications will not be further considered for independent panel review that do not meet all eligibility criteria at the time of submission of applications.

Cooperative agreements may not be awarded to:

• Any individual;

• Social Security Administration Field Offices;

• Any State agency administering the State Medicaid program under title XIX of the Act;

• Any organization described in section 501(c)(4) of the Internal Revenue Code of 1968 that engages in lobbying (in accordance with section 18 of the Lobbying Disclosure Act of 1995, 2 U.S.C. 1611)

B. Policies Regarding Potential Conflict of Interest in WIPA Service Delivery

All applicants applying for a cooperative agreement must fully document how they will ensure there will be no conflict of interest between providing work incentives planning and assistance services and delivering employment network-related services or protection and advocacy-related services to beneficiaries with disabilities in their employment efforts. In particular, they must demonstrate how issues will be resolved when a complaint or issue is against a Community Work Incentives Coordinator (CWIC) or WIPA organization. Also, State Vocational Rehabilitation (VR) agencies and other organizations that are, or will apply to be a WIPA project, under SSA's Ticket to Work and Self-Sufficiency Program, must fully explain how they will resolve potential conflict of interest issues in the event it also receives a cooperative agreement to provide work incentives planning and assistance services. This is especially important in the areas of providing beneficiaries complete information regarding other organizations from which they may choose to receive employment services.

Note: SSA will not accept for further consider applications for independent panel review that do not include documented policies and procedures regarding the resolution of potential conflict of interest issues as noted above.

C. Cost Sharing or Matching

Awardees of SSA cooperative agreements are required to contribute a non-Federal match of at least 5 percent toward the total cost of each project. The total cost of the project is the sum of the Federal share (up to 95 percent) and the non-Federal share (at least 5 percent). The non-Federal share may be cash or in-kind (property or services) contributions.

Note: SSA will not accept for further consideration applications for independent panel review that do not document their agreement to cost sharing/matching as noted above.

IV. Application and Submission Information

A. Address To Request Application

It is required that an electronic application be submitted through http://www.grants.gov for Funding Opportunity Number SSA-OESP-06-1. The http://www.grants.gov, “Get Started” webpage is available to help explain the registration and application submission process. In addition, new Federal grant applicants may find the Grants.gov Registration Brochure on the above noted Web site to be helpful.

If you experience problems with the steps related to registering to do business with the Federal government or application submission, your first point of contact is the Grants.gov support staff at support@grants.gov, 1-800-518-4726. If your difficulties are not resolved, you may also contact the SSA Grants Management Team for assistance: Gary Stammer, 410-965-9501; Dave Allshouse, 410-965-9262; Audrey Adams, 410-965-9469; Mary Biddle, 410-965-9503; Ann Dwayer, 410-965-9534; Phyllis Y. Smith, 410-965-9518.

If extenuating circumstances prevent you from submitting an application through http://www.grants.gov, please contact the SSA Grants Management Team for possible prior approval to download, complete and submit an application by mail. Please fax inquiries regarding the application process to the Grants Management Team at 410-966-9310 or mail to: Social Security Administration, Office of Acquisition and Grants, Grants Management Team, Attention: SSA-OESP-06-1, 1st Floor—Rear Entrance, 7111 Security Blvd., Baltimore, Md. 21244. To ensure receipt of the proper application package, please include program announcement number SSA-OESP-06-1 and the date of this announcement.

B. Content and Form of Application Submission

Prospective applicants are asked to submit, preferably by May 30, 2006, an e-mail, a fax, post card, or letter of intent that includes:

(a) The program announcement number (SSA-OESP-06-1) and title, Work Incentives Planning and Assistance (WIPA) Program;

(b) The name of the agency or organization that is applying; and

(c) The name, mailing address, e-mail address, telephone number, and fax number for the organization's contact person.

The notice of intent is not required, is not binding, and does not enter into the review process of a subsequent application. The purpose of the notice of intent is to allow SSA staff to estimate the number of independent reviewers needed and to avoid potential conflicts of interest in the review. The notice of intent should be faxed to (410) 966-1278; mailed to Social Security Administration, Office of Employment Support Programs, Office of Beneficiary Outreach and Employment Support, 107 Altmeyer Building, 6401 Security Boulevard, Baltimore, Maryland 21235-6401; or e-mailed to Jenny.Deboy@ssa.gov or Regina.Bowden@ssa.gov.

C. Electronic Applications

When submitting an application electronically http://www.grants.gov automatically ensures a complete application is submitted.

D. Mailed Applications

Applications that are not submitted by July 1, 2006 are considered late applications. SSA will not waive or extend the deadline for any application unless the deadline is waived or extended for all applications. SSA will notify each late applicant that its application will not be considered. Applicants that do not have not have access to the internet should contact the Office of Acquisitions and Grants Management Team for further details on how to complete an application.

All applications that meet the deadline of July 1, 2006 will be screened to determine completeness and conformity to the requirements of this announcement. Complete and conforming applications will then be evaluated.

• Length: The program narrative portion of the application may not exceed 50 double-spaced pages (or 25 single-spaced pages) on one side of the paper only, using standard (8½″ x 11″) size paper, and 12-point font. Attachments that support the program narrative count towards the 50-page limit; resumes and letters of support do not count within the 50-page limit.

E. Checklist for a Complete Application

The checklist below is a guide to ensure that the application package has been properly prepared.

• An original, signed and dated application plus at least two copies (if submitting paper application as opposed to an electronic application.) If submitting paper application, seven additional copies are optional but will expedite processing.

Note: When submitting an application electronically http://www.grants.gov automatically ensures a complete application is submitted.

• The project narrative portion of the application, which includes the applicant's detailed service delivery plan, may not exceed fifty double-spaced pages (twenty-five single-spaced pages) on one side of the paper only, using standard (8½″ x 11″) size paper, and 12-point font. Attachments that support the program narrative count towards the 50-page limit; resumes and letters of support do not count in the 50-page limit.

• Attachments/Appendices, when included, should be used only to provide supporting documentation. Please do not include books or videotapes as they are not easily reproduced and are therefore inaccessible to reviewers.

• A complete application, which consists of the following items in this order:

(1) Part I (Face page)—Application for Federal Assistance;

(2) Table of Contents;

(3) Brief Project Summary or Synopsis (not to exceed one page);

(4) Part II—Budget Information, Sections A through G;

(5) Budget Justification (in Section B Budget Categories, explain how amounts were computed), including subcontract organization budgets;

(6) Part III—Application Narrative and Appendices; [Note: Project Narrative should include the required detailed service delivery plan.]

(7) Part IV—Assurances;

(8) Additional Assurances and Certifications—regarding Lobbying and regarding Drug-Free Workplace; and

F. Guidelines for Application Submission

All applications for this cooperative agreement project must be submitted on the prescribed forms. The application shall be executed by an individual authorized to act for the applicant organization and to assume for the applicant organization the obligations imposed by the terms and conditions of the cooperative agreement award. Submission through Grants.gov generates signatures in all required fields. It is important that only an authorized representative submit the application.

In item 12 of the Face Sheet (SF 424), the applicant must clearly indicate the application submitted is in response to this announcement (SSA-OESP-06-1). The applicant also is encouraged to select a short descriptive project title.

Prospective applicants are asked to submit, preferably by May 30, 2006, an e-mail, fax, post card, or letter of intent that includes (1) the program announcement number (SSA-OESP-06-1) and title (Work Incentives Planning and Assistance (WIPA) Program); (2) the name of the agency or organization that is applying; and (3) the name, mailing address, e-mail address, telephone number, and fax number for the organization's contact person. The notice of intent is not required, is not binding, and does not enter into the review process of a subsequent application. The purpose of the notice of intent is to allow SSA staff to estimate the number of independent reviewers needed and to avoid potential conflicts of interest in the review. The notice of intent should be faxed to (410) 966-1278; mailed to Social Security Administration, Office of Employment Support Programs, Division of Employment Policy, 107 Altmeyer Building, 6401 Security Boulevard, Baltimore, Maryland 21235-6401; or e-mailed to Jenny.Deboy@ssa.gov or Regina.Bowden@ssa.gov.

G. Submission Dates and Times

All applications must be submitted by the closing date of July 1, 2006. When authorized by the SSA Grants Management Team, applications may be mailed or hand-delivered to: Grants Management Team, Office of Acquisition and Grants, OAG, Social Security Administration, Attention: SSA-OESP-06-1, 1st Floor—Rear Entrance, 7111 Security Blvd., Baltimore, MD 21244. Hand-delivered applications are accepted between the hours of 8 a.m. and 5 p.m., Monday through Friday. An application will be considered as meeting the deadline if it is either:

• Received from Grants.gov on or before the deadline date; or

• When a mailed application has been authorized by the Grants Management Team, received at the above address on or before the deadline date; or

• When a mailed application has been authorized by the Grants Management Team, mailed through the U.S. Postal Service or sent by commercial carrier on or before the deadline date and received in time to be considered during the competitive review and evaluation process. Packages must be postmarked by July 1, 2006. Applicants are cautioned to request a legibly dated U.S. Postal Service postmark or to obtain a legibly dated receipt from a commercial carrier as evidence of timely mailing. Private-metered postmarks are not acceptable as proof of timely mailing.

H. Intergovernmental Review

The applicant organization is to check with your State's Single Point of Contact (SPOC) to find out about and comply with your State's process under Executive Order 12372. SPOCs are listed in the Office of Management and Budget's home page at: http://www.whitehouse.gov/omb/grants/spoc.html.

I. Funding Restrictions

Construction expenses: SSA programs do not have construction authority but may support limited alteration and renovation costs. Amounts included under this category must be fully explained under Section F of the application.

J. Other Submission Requirements

Application packages are provided at http://www.grants.gov. If extenuating circumstances prevent you from submitting an application through http://www.grants.gov please contact the SSA Grants Management Team (at the Office of Acquisitions and Grants (OAG), Social Security Administration, Grants Management Team, Attention: SSA-OESP-06-1, 1st Floor—Rear Entrance, 7111 Security Blvd., Baltimore, MD 21244) for possible prior approval to download, complete and submit an application package by mail.

All applicants for Federal grants and cooperative agreements on or after October 1, 2003 are required to provide a Dun and Bradstreet (D&B) Data Universal Number System (DUNS) number. The DUNS number is required whether an applicant is submitting a paper application or using the government-wide electronic portal (Grants.gov). Organizations should verify that they have a DUNS number or take the steps needed to obtain one as soon as possible. Organizations can receive a DUNS number at no cost by calling the dedicated toll-free DUNS number request line at 1-866-705-5711.

V. Application Review Information

A. Criteria

Upon receipt, all applications will be reviewed to determine completeness and conformity to the requirements of this announcement. If an applicant is determined to be ineligible or the application is incomplete or nonconforming to the requirements of this announcement, the application will be returned to the applicant and will no longer be considered for award. Applications that are complete and conform to the requirements of this announcement will then be forwarded to an independent panel of reviewers for evaluation.

B. Review and Selection Process

The results of this review and evaluation will assist the Commissioner of Social Security in making the award decision. Although the results of this review and evaluation are a primary factor considered in making the decisions, the evaluated score is not the only factor used. In selecting eligible applicants to be funded, consideration will be given to issues such as experience, past performance, proposed costs, the need to achieve an equitable distribution of WIPA projects among geographic regions of the country, as well as the need to achieve an equitable distribution of WIPA projects among disability and minority populations.

There are four categories of criteria used to score applications: Relevance/adequacy of project design and scope; resources and management; quality assurance, and collaboration/partnerships. The total points possible for an application are 100. Following are the evaluation criteria that SSA will use in reviewing all applications (relative weights are shown in parentheses):

1. Relevance/Adequacy of Project Design and Scope (50 Points)

The adequacy of the project design and scope will be evaluated based on the following criteria in descending order of priority:

• The applicant's description of the project operations, including the project's documented knowledge of work incentives as they relate to employment and how the project will provide services to beneficiaries with disabilities regarding employment (e.g., identify how project will notify potential beneficiaries about the availability of work incentives planning and assistance services, location(s) for providing services, ability to travel to the beneficiary, etc.) and the quality of the project design;

• Applicant's evidence that their project design and scope will successfully assist beneficiaries with disabilities obtain, regain or maintain gainful employment;

• The applicant's clear and concise statement of the project goals and objectives; and process(es) for collecting SSA required management information; specification of data sources; including how they will interact with the SSA approved national data base;

• The applicant's description of how the project will address provision of work incentives planning, assistance and outreach to populations with special cultural or language requirements specific to their geographic area;

• The applicant's plan for providing work incentives planning, assistance and outreach to transition-to-work-aged SSI youth;

• The applicant's identification of problems that may arise and how they will be resolved; e.g., how dropouts and inadequate numbers of beneficiary participants will be handled.

• If appropriate in the applicant's State or Region, a plan for providing seamless employment services to individuals seeking to enter the workforce through the SSA DOL/ETA Disability Program Navigator (DPN) initiative and existing Employment Networks (ENs). [Note: Applicants in a State or Region that do not have a DPN or EN need not address this issue in their application and may receive all available points for this criteria. Evaluation panels will not use this sub-criteria in the application evaluation for those States or Regions where it is not applicable.]

• If appropriate in the applicant's State, a plan for providing work incentives planning, assistance and outreach to States involved in the Youth Transition Process Demonstration; [Note: Applicants in a State or Region that do not have a YTD need not address this issue in their application and may receive all available points for this criteria. Evaluation panels will not use this sub-criteria in the application evaluation for those States or Regions where it is not applicable.]

2. Resources and Management (20 Points)

Resources and management will be evaluated based on the following:

• The applicant's documentation that the Project Directors and CWICs have the necessary experience to successfully implement the program requirements described in this RFA; (Specifically, projects successfully involving return-to-work initiatives for SSDI and SSI beneficiaries with disabilities.)

• The applicant's description and adequacy of the proposed infrastructure and organization of the project, including the existence of the necessary administrative resources to effectively carry out the program requirements;

• The applicant's plan for providing personnel who meet the qualification criteria cited in this RFA under Section I as evidenced by training and experience which indicates that they have the skills required to competently provide work incentives planning and assistance services;

• The applicant's plan for providing staff members who are individuals with disabilities to conduct the day-to-day operational functions;

• The applicant's evidence of sufficient resources, including personnel, time, funds, and facilities that will be available to support beneficiaries with disabilities obtain, maintain or regain employment under this program. The applicant's evidence of adequate facilities should include accessibility to public transportation, elevators, and ramps.

3. Quality Assurance (20 Points)

The applicant's quality assurance plan will be evaluated based on the following:

• The applicant's plan for ensuring ongoing training needs (refresher and update training) of CWICs and other personnel, as appropriate, to ensure that personnel maintain knowledge, skills, and abilities as required to perform their job duties;

• The applicant's plan for using management information data and caseload reviews to improve processes such as beneficiary case-management and follow-up services and to ensure that all work incentives information given to beneficiaries is accurate and applicable. The applicant's plan must include how it intends to track the progress and outcomes of beneficiaries based on services provided by the CWIC. SSA is interested in identifying beneficiary outcomes under the WIPA Program to determine the extent to which beneficiaries with disabilities achieve their employment, financial, and health care goals. Therefore, SSA is requiring that cooperative agreement awardees collect beneficiary specific data regarding the employment status, benefit status, and income of beneficiaries before and after providing services under these cooperative agreements;

• The applicant's evidence of existing case management and monitoring systems and techniques, including a management information system;

• The applicant's detailed quality assurance plan and how well it complies with the requirements of this RFA in terms of data collection, reporting, and ensuring that only accurate information is provided to beneficiaries with disabilities and others interested parties, as appropriate.

4. Collaboration/Partnerships (10 Points)

The applicant s collaborative activities and partnerships will be evaluated based on the following:

• Evidence of the applicant s working relationship with the local DOL One-Stop Career Center;

• Applicant s evidence of other collaborative activities with relevant agencies, (e.g., Vocational Rehabilitation, Centers for Medicare and Medicaid Services (CMS), Dept. of Education, Minority Commission, Workforce Centers, Employment Networks, Mental Health organizations) in providing work incentives planning and assistance services; and extent to which the applicant partnered in collaborative efforts with these organizations, including letters of intent or written assurances from cited organizations;

• The applicant s plan to work in collaboration/cooperation with the PMRO. [Note: Additional information regarding how WIPA projects will work with the PMRO may be found at http://www.socialsecurity.gov/work/WIPARFA.html.]

VI. Award Administration Information

A. Award Notices

A cooperative agreement award will be issued within the constraints of available Federal funds and at the discretion of SSA. The official award document is the “Notice of Cooperative Agreement Award.” It will provide the amount of the award, the purpose of the award, the term of the agreement, the total project period for which support is contemplated, the amount of financial participation required, and any special terms and conditions of the cooperative agreement. The Notice of Cooperative Agreement Award signed by the Grants Officer is the authorizing document. These awards will be issued via e-mail.

B. Administrative and National Policy Requirements

No administrative or national policy requirements have been identified by SSA for the WIPA Program.

C. Reporting

Entities must provide all collected data and report the results to SSA's Office of Acquisition and Grants, Grants Management Team (OAG, GMT), as described below.

The entities awarded a cooperative agreement under this notice shall submit quarterly progress reports to OAG, GMT. SSA expects that the project will need a period of time to begin providing services and collecting management information. Therefore, the first quarterly program report shall include a description of the project, a status of data collection operations, actions that were taken, planned actions, and a description of how the project is addressing the needs of individuals with disabilities from diverse ethnic and racial communities, both in work incentives planning and in carrying out outreach activities.

Subsequent quarterly program reports shall provide: A status of the project, any problems or proposed changes in the project (e.g., requests for technical assistance from contractor, interagency agreement change); specific information (baseline data/program statistics) required by SSA, including that listed above; a description of how the project is addressing the needs of individuals with disabilities from diverse ethnic and racial communities, both in work incentives planning and outreach activities; quality assurance measures, goals achieved, collaboration activities, outcomes achieved by beneficiaries served/success stories involving employment, actions that were taken, and planned actions. The quarterly program reports shall be submitted to SSA, OAG, within 30 days after the end of the quarter. Financial status reports shall be submitted bi-annually, within 30 days after the end of the six month period.

SSA personnel (SSA Project Officer and/or other staff) expect to visit projects at least once in each year of the cooperative agreement. The SSA Project Officer shall review site operations, collect management information, assess the quality assurance plan and goal achievement, and evaluate how projects are finding ways to make work incentives planning and assistance activities more effective in achieving SSA's program goals.

Staff members shall attend an initial orientation meeting that will include an orientation session by SSA and subsequent scheduled conferences at SSA headquarters or alternate sites chosen by SSA. Those meetings will provide the awardee of the cooperative agreement with the opportunity to exchange information with SSA and other awardees.

D. MI Program Data To Be Collected and Reported

Common data elements will be collected through a national on-line database. The awardees and SSA will use the management information (MI) data to manage the project and to determine what additional resources or other approaches may be needed to improve the process. The data will also be valuable to SSA in its analysis of and future planning for the SSDI and SSI programs. SSA is interested in identifying participant outcomes under the WIPA Program to determine the extent to which participants achieve their employment, financial, and health care goals. Therefore, SSA is requiring that cooperative agreement awardees collect data regarding the employment status, benefit status, and income of beneficiaries before and after providing services in order to help ensure that SSA beneficiaries with disabilities are gaining effective supports and follow-up services needed to move towards gainful employment.

Data to be collected will include information about:

Beneficiaries' demographic characteristics, including Social Security Numbers (SSNs); Beneficiaries' income support characteristics (including earnings and SSA and non-SSA benefits);

Beneficiaries' non-income support characteristics (including access to public and private health care);

Beneficiaries' work goals and strategies;

Beneficiaries' use of SSA's work incentives and;

Isolated outreach activities for evaluation purposes;

Employment outcomes.

The projects will collect, analyze, and summarize the specific data elements listed below:

A. Beneficiary information:

1. Beneficiary/recipient name (Last, First, Middle)

2. Date of birth

3. Gender

4. Special language or other consideration

5. Mailing address

6. Telephone number

7. Social Security Number (SSN)

8. Representative payee (RP) name (if applicable)

9. RP address

10. Current level of education

11. Whether pursuing education currently and at what level (e.g., post secondary, continuing adult education, special education, vocational education)

12. Proposed educational goals

13. Primary diagnosis

14. Secondary diagnosis (if applicable)

15. Employer health care coverage at outset (if working)

16. Other health care coverage

B. Employment Information and Outcomes: (current and proposed goals—when applicable.)

1. Self-employed or employee

2. Type of work

3. Beginning date

4. Hours per week

5. Monthly gross earned income

6. Monthly net earned income

7. Work-related expenses

C. Program Manager for Recruitment and Outreach (PMRO) Activities:

1. Dates, times, location and attendance information on work incentives education seminars and other Ticket to Work Marketing sessions conducted in collaboration with the PMRO;

2. Beneficiaries' income support characteristics (including earnings and SSA and non-SSA benefits);

3. Beneficiaries' non-income support characteristics (including access to public and private health care);

4. Beneficiaries' identified work goals and strategies for attaining successful employment outcomes (For example, will a beneficiary need to seek additional training or education in order to attain an identified employment outcome?);

5. Other local outreach activities conducted by the project for further evaluation purposes;

D. Benefits: (current and expected changes if employment goals are reached)

1. SSDI

2. SSI

3. Concurrent (SSDI and SSI)

4. Medicare

5. Medicaid

6. Private Health Insurance

7. Subsidized housing or other rental subsidies

8. Food Stamps

9. General Assistance

10. Workers Compensation benefits

11. Unemployment Insurance benefits

12. Other Federal, State, or local supports, including TANF (specify)

E. Incentives to be used:

1. Trial-work period (TWP)

2. Extended period of eligibility (EPE)

3. Impairment-related work expenses (IRWE)

4. Plan for achieving self-support (PASS)

5. 1619(a)

6. Continuing Medicaid (1619(b))

7. Medicaid buy-in provisions/Balanced Budget Act

8. Blind Work Expense

9. Student Earned Income Exclusion

10. Subsidy Development

11. Extended Medicare

12. Property Essential to Self-Support

13. Earned Income Exclusion

14. SGA limits (unsuccessful work attempt, subsidy, unincurred business expenses, etc.)

F. Services to be used:

1. Vocational Rehabilitation services

2. Para-transit services

3. Protection and Advocacy services

4. Work-related training/counseling program

5. USDOL/ETA One-Stop Career Center services

6. Transitioning youth services (from school to post-secondary education or to work)

7. Employment Network services

8. Services for beneficiaries with visual impairments (i.e. service animals)

9. Employer Assistance and Referral Network (EARN)

10. Other Advocacy-related Services

G. Monthly Work Incentives Planning and Assistance (WIPA) activities performed:

1. Number of SSDI/SSI beneficiaries (over age 18) requesting assistance (initial and repeat requests)

2. Number of SSDI/SSI beneficiaries (ages 14 to 18) requesting assistance (initial and repeat requests)

3. Number of new work incentives plans prepared

4. Number of updated work incentives plans prepared

5. Number of presentations given at forums, conferences, meetings, etc.

6. Number of work incentives education and Ticket to Work marketing sessions conducted in collaboration with the PMRO.

7. Number of follow-up contacts with beneficiaries

8. Number of times exhibited at forums, conferences, meetings, etc.

9. Number of contacts with Area Work Incentives Coordinators (AWICs)

Additional information such as the time spent per beneficiary/recipient, beneficiary's waiting time for a response, an appointment and for services, the reason for service request, the level of service provided, and any anticipated or verified employment status change of the beneficiary will also be reported by awardee. All data elements are to be collected through an SSA approved national online database, in order to allow for analysis of project efficacy and the comparability of the data across project sites.

The application requirements in Part IV are the minimum amount of required project information. Projects will be responsible for collecting management information (MI), producing regular reports, and producing a final report which analyzes the successes and/or failures of the methodology used to provide work incentives planning and assistance services to SSDI and SSI beneficiaries.

Note: Reporting guidelines are outlined in Section VI (Award Administration Information) Part 2: Reporting; and, Part 3: Management Information Program Data to be Collected and Reported.

All projects must adhere to SSA's Privacy and Confidentiality Regulations (20 CFR part 401) for maintaining records of individuals, as well as provide specific safeguards surrounding beneficiary information sharing, paper/computer records/data, and other issues potentially arising from providing work incentives planning and assistance services to SSDI and SSI beneficiaries with disabilities. Beneficiary data should be accessible only to project personnel via locked file cabinets, computer password protections, etc.

VII. Agency Contacts

Send questions about this announcement to the following Internet e-mail addresses: Jenny.Deboy@ssa.gov or Regina.Bowden@ssa.gov. When sending in a question, reference program announcement number SSA-OESP-06-1 and the date of this announcement.

For information regarding the application submission process, you may also contact: Phyllis Y. Smith or Gary Stammer, Grants Management Team, Office of Acquisition and Grants, Social Security Administration, 1st Floor—Rear Entrance, 7111 Security Blvd., Baltimore, MD 21244. The telephone numbers are: Phyllis Y. Smith, (410) 965-9518, or Gary Stammer, (410) 965-9501. The fax number is (410) 966-9310.

VIII. Other Information

Process Evaluation

SSA plans to conduct a formal independent process evaluation of the WIPA Program, as well as individual projects, beginning in FY2007 to further assess the overall efficacy of the program in terms of assisting beneficiaries with disabilities return to work. The purpose of a process evaluation is for SSA and the awardees to assess how the WIPA Program functions and how the process (es) might be improved to provide more efficient and effective work incentives services, as required under section 1149 of the Act. The process evaluation will require both data collection and qualitative observational evaluation through site visits and/or project reporting.

Participant Experience

The goal of these cooperative agreements is the provision of services to enhance beneficiary awareness and understanding of SSA work incentives and thereby enhance a beneficiaries' ability to make informed choices regarding work. The goal is not to provide employment services however, employment is ultimately the key for many beneficiaries with disabilities in terms of gaining greater self-sufficiency.

Projects shall submit periodic reports to SSA, OAG. Data and information that are used in preparing the reports can be used, for example, to improve the efficiency of the project's operations, use of staff, and linkages between the project and the programs for which work incentives planning is needed to better meet the needs of target populations. In addition, the evaluation results will be disseminated to other projects to promote learning, program refinements, and facilitate partnership and achievement of project objectives. Timely comprehensive MI data also allows for cost accounting, which helps improve the efficiency of service approaches and may inform future policy decisions.

Paperwork Reduction Act

This notice contains reporting requirements. The information is collected by the Grants.gov Apply facility. However, in rare circumstances, the information may be collected using form SSA-96-BK, Federal Assistance Application, which has the Office of Management and Budget clearance number 0960-0184.

Dated: May 8, 2006.
Martin H. Gerry,
Deputy Commissioner for Disability and Income Security Programs.

[FR Doc. 06-4507 Filed 5-15-06; 8:45 am]

BILLING CODE 4191-02-P